DEPARTMENT OF TRANSPORTATION

National Highway Traffic Safety Administration

[Docket No. NHTSA-2008-0142]

RIN 2127-AK37

E-911 Grant Program

AGENCY: National Highway Traffic Safety Administration (NHTSA), Department of Transportation (DOT).

ACTION: Notice.

SUMMARY: Before a Federal agency can collect certain information from the public, it must receive approval from the Office of Management and Budget (OMB). Under procedures established by the Paperwork Reduction Act of 1995 (PRA), Federal agencies must solicit public comment on proposed collections of information, including extensions and reinstatements of previously approved collections before seeking OMB approval. This document provides notice of OMB's approval of the information collection and the assignment of a control number for the E-911 grant program.

FOR FURTHER INFORMATION CONTACT: Laurie Flaherty, Office of Emergency Medical Services, NTI-140, telephone (202) 366-2705, fax (202) 366-7721, NHTSA, 1200 New Jersey Avenue, SE., Washington, DC 20590.

SUPPLEMENTARY INFORMATION: Pursuant to the Paperwork Reduction Act (44 U.S.C. 3501, et seq.), the National Highway Traffic Safety Administration and the National Telecommunications and Information Administration solicited public comments on the proposed collection of information, with a 60-day comment period, in the notice of proposed rulemaking published on October 3, 2008 (73 FR 57567). In a Federal Register notice published on May 19, 2009, the agencies announced that they submitted the information collection request to OMB for approval. (73 FR 23465). In the Final Rule published in the Federal Register on June 5, 2009 (74 FR 26965), the agencies announced that OMB approval of the information collection was pending. This document provides notice that OMB has approved the information collection and has assigned OMB control number 2127-0661 for the E-911 grant program.

Issued on July 31, 2009.
Jeff Michael,
Associate Administrator, Research and Program Development, National Highway Traffic Safety Administration.

[FR Doc. E9-18726 Filed 7-31-09; 4:15 pm]

BILLING CODE 4910-59-P